ENVIRONMENTAL PROTECTION AGENCY

[ER-FRL-6648-6]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 564-7167.

An explanation of the ratings assigned to draft environmental impact statements (EISs) was published in the Federal Register dated April 4, 2003 (68 FR 16511).

Draft EISs

ERP No. D-AFS-K65265-CA Rating EC2, McNally/Sherman Pass Restoration Project, Proposal to Remove Fire-Kill Trees, Road Construction and Associated Restoration of the Area Burned, Sequoia National Forest, Cannell Meadow Ranger District, Tulare County, CA.

Summary: EPA raised environmental concerns on potential impacts to water supplies from using magnesium chloride to reduce road-related fugitive dust emissions and a fungicide SPORAX to control tree stump fungus. The FEIS should include mitigation to reduce or avoid potential adverse impacts when using the compounds.

ERP No. D-DOE-F09004-OH Rating EC2, Portsmouth, Ohio Site Depleted Uranium Hexafluoride Conversion Facility, Construction and Operation, Pike County, OH.

Summary: EPA has environmental concerns over the measurement units and proper reference to NESHAP standards, and the cumulative effects of the new enrichment facility that will be built on the site.

ERP No. D-FHW-G40179-TX Rating LO, Kelly Parkway Project, Construction from U.S. 90 to TX-16, to Improvement Transportation Mobility, Facilitate Economic Development, and Enhance Safety, Funding and U.S. Army COE Section 404 Permit, San Antonio, Bexar County, TX.

Summary: EPA has no objections to the preferred alternative.

ERP No. D-NRC-F06022-IL Rating EC2, Quad Cities Nuclear Power Station Units 1 and 2, Supplement 16 to NUREG-1437, License Renewal, IL.

Summary: EPA has environmental concerns regarding radiological impacts from power updates, and on-site storage and transport of spent fuel rods and waste. EPA requests information regarding potential sediment contamination, and risk estimates for core damage frequency, and site-specific radiation doses.

ERP No. DA-FTA-L40210-WA Rating LO, Central Link Light Rail Transit Project (Sound Transit) Construction and Operation of the North Link Light Rail Extension from Downtown Seattle and Northgate, Funding, Right-of-Way and U.S. Army COE Section Permits, Cities of Seattle, Sea Tac and Tukwila, King County, WA.

Summary: EPA Region 10 used a screening tool to conduct a limited review of this action. Based upon this screen, EPA does not foresee having any environmental objections to the proposed project.

Final EISs

ERP No. F-FHW-F40411-MN Trunk Highway 371 Corridor Reconstruction, U.S. Truck Highway 10 to County State Aid Highway (CSAH) Highway 48, Funding, Morrison County, MN.

Summary: EPA has no objections to the preferred alternative.

Dated: February 17, 2004.
Ken Mittelholtz,
Environmental Specialist, Office of Federal Activities.

[FR Doc. 04-3746 Filed 2-19-04; 8:45 am]

BILLING CODE 6560-50-P